DEPARTMENT OF HOUSING AND URBAN DEVELOPMENT

[Docket No. FR 4819-N-03]

Notice of Proposed Information Collection: Survey of HUD Grantees To Assess Implementation of the Lead Safe Housing Rule

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: August 4, 2003.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Joey Y. Zhou, (202) 755-1785 ext. 153 (this is not a toll-free number), for copies of the proposed forms and other available documents.

SUPPLEMENTARY INFORMATION: The Department is submitting the proposed information collection to OMB for review, as required by the Paperwork Reduction Act of 1995 (44 U.S.C. chapter 35, amended).

The notice is soliciting comments from members of the public and affected agencies concerning the proposed collection of information to: (1) Evaluate the accuracy of the agency's estimate of the burden of the proposed collection of information; (2) evaluate the accuracy of the agency's estimate of the burden of the proposed collection of information; (3) enhance the quality, utility and clarity of the information to be collected; and (4) minimize the burden of the collection of information on those who are to respond; including through the use of appropriate automated collection techniques or other forms of information technology, e.g., permitting electronic submission of responses.

Title of Proposal: Survey of HUD Grantees to Assess Implementation of the Lead Safe Housing Rule.

OMB Control Number: None.

Need for the Information and Proposed Use: Lead is a highly toxic heavy metal that adversely affects virtually every organ system in the body. Young children are particularly susceptible to the effects of lead. Childhood lead poisoning is linked to reduced intelligence, low attention span, reading and learning disabilities, juvenile delinquency, behavioral problems, and other adverse health effects. Nearly 430,000 children have excessive levels of lead in their blood, making lead poisoning a leading childhood environmental disease. A larger body of evidence shows that the most common source of lead exposure for children today is lead-based paint (LBP) in older housing and the contaminated dust and soil it generates.

In an effort to alleviate the problem of lead poisoning, Congress passed the Residential Lead-Based Paint Hazard Reduction Act of 1992, often referred to as title X. It authorized EPA, HUD, and OSHA to develop LBP regulations and conduct extensive lead hazard control work. The Final New HUD Regulation on Lead-Based Paint Hazards in Federally Owned Housing and Housing Receiving Federal Assistance, 24 CFR 35, subparts B-R, et al. (the “Lead Safe Housing Rule”) was published September 15, 1999, and was fully in effect January 10, 2002. This rule established performance standards for protecting children in federally assisted housing from lead poisoning, including clearance standards that must be met to ensure that dwellings are lead-safe for their occupants.

The objective of the proposed survey is to assess the level of compliance of the Rule by recipients of HUD housing assistance funds. The information is valuable for HUD to provide compliance assistance and enforcement functions regarding the Lead-Safe Housing Rule.

Agency Form Numbers: None.

Members of Affected Public: HUD Grantees.

Total Burden Estimate (First Year):

Task | Number of respondents | Frequency of responses | Total hours of responses
Respondents 1,000 | 1 | 2 | 2,000
Total Estimated Burden Hours |  |  | 2,000

Authority: The Paperwork Reduction Act of 1995, 44 U.S.C. chapter 35, as amended.

Dated: May 19, 2003.
David E. Jacobs,
Director, Office of Healthy Homes and Lead Hazard Control.

[FR Doc. 03-13746 Filed 6-2-03; 8:45 am]

BILLING CODE 4210-70-M